DEPARTMENT OF DEFENSE

Office of the Secretary

[Docket ID: DoD-2014-OS-0046]

Privacy Act of 1974; System of Records

AGENCY: Office of the Secretary of Defense, DoD.

ACTION: Notice to alter a System of Records.

SUMMARY: The Office of the Secretary of Defense proposes to alter a system of records, DWHS M01, entitled “WHS Living Disaster Recovery Planning System (LDRPS) Records”, in its inventory of record systems subject to the Privacy Act of 1974, as amended. This system will assist ODA&M WHS directorates in notifying personnel via an automated notification system (e.g., Notifind) during a COOP exercise or event and to match key personnel with essential functions.

DATES: Comments will be accepted on or before May 9, 2014. This proposed action will be effective the date following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in FOR FURTHER INFORMATION CONTACT or at the Defense Privacy and Civil Liberties Office Web site at http://dpclo.defense.gov/.

The proposed system report, as required by U.S.C. 552a(r) of the Privacy Act of 1974, as amended, was submitted on March 12, 2014, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: April 3, 2014.
Aaron Siegel,
Alternate OSD Federal Register Liaison Officer, Department of Defense.

DWHS P43

System name:

Emergency Personnel Locator Records (December 18, 2007, 72 FR 71664).

Changes:

System identifier:

Delete entry and replace with “DWHS M01”

System name:

Delete entry and replace with “WHS Living Disaster Recovery Planning System (LDRPS) Records.”

System location:

Delete entry and replace with “Washington Headquarters Services (WHS), Enterprise Information Technology Services Directorate (EITSD), 1155 Defense Pentagon, Washington, DC 20301-1155.”

Categories of individuals covered by the system:

Delete entry and replace with “Office of Director of Administration and Management (ODA&M) (minus Pentagon Force Protection Agency (PFPA)) and WHS civilian, military, and contractor personnel.”

Categories of records in the system:

Delete entry and replace with “Name; directorate; agency; type (civilian, military or contractor); duty title; division; sub-division; work shift; fax; pager; short message service (SMS); work blackberry; work location; room number; work phone and email; personal email; personal cell number; home phone number; emergency contact first and last name; emergency contact relationship; emergency contact phone number; emergency contact alternate phone number; key card; WHS Emergency Support Function (ESF); ESF number; ESF training certificate and date; and Continuity of Operations (COOP) deployer.”

Authority for maintenance of the system:

Delete entry and replace with “Executive Order 12656, Assignment of Emergency Preparedness Responsibilities, November 18, 1988, as amended; Presidential Decision Directive 67, Enduring Constitutional Government and Continuity of Government Operations, October 21, 1998; Federal Preparedness Circular 65, Federal Executive Branch Continuity of Operations, June 15, 2004; DoD Directive 3020.26, Department of Defense Continuity Programs, January 9, 2009; DoDD 5110.04, Washington Headquarters Services (WHS), March 27, 2013.”

Purpose(s):

Delete entry and replace with “To assist ODA&M WHS directorates in notifying personnel via an automated notification system (e.g., Notifind) during a COOP exercise or event and to match key personnel with essential functions.”

Routine uses of records maintained in the system, including categories of users and the purposes of such uses:

Delete entry and replace with “In addition to those disclosures generally permitted under 5 U.S.C. 552a(b) of the Privacy Act of 1974, as amended, the records contained herein may specifically be disclosed outside the DoD as a routine use pursuant to 5 U.S.C. 552a(b)(3) as follows:

The Blanket Routine Uses set forth at the beginning of the OSD compilation of systems of records notices may apply to this system.”

Policies and practices for storing, retrieving, accessing, retaining, and disposing of records in the system:

Storage:

Delete entry and replace with “Electronic storage media.”

Retrievability:

Delete entry and replace with “Individual's name, work location and directorate.”

Safeguards:

Delete entry and replace with “Records are maintained in a DoD controlled facility. Physical entry is restricted by the use of locks, guards and is accessible only to authorized personnel. Access to records is limited to personnel responsible for servicing the record in performance of their official duties and who are properly screened and cleared for need-to-know. Access to computerized data is restricted by Common Access Card.”

Retention and disposal:

Delete entry and replace with “Temporary. Cut off when superseded or obsolete, destroy immediately after cut off.”

System manager(s) and address:

Delete entry and replace with “Washington Headquarters Services, Continuity of Operations and Emergency Management Program Manager, 9600 Defense Pentagon, Washington, DC 20301-0001.”

Notification procedure:

Delete entry and replace with “Individuals seeking to determine whether information about themselves is contained in this system should address written inquires to the Washington Headquarters Services, Continuity of Operations and Emergency Management Program Manager, 9600 Defense Pentagon, Washington, DC 20301-0001.

Requests should contain individual's full name, office name where they were assigned or affiliated, and office address and telephone number applicable to the period during which the records were maintained.”

Record access procedures:

Delete entry and replace with “Individuals seeking access to records about themselves should address written inquiries to the Office of the Secretary of Defense/Joint Staff Freedom of Information Act Requester Service Center, 1155 Defense Pentagon, Washington, DC 20301-1155.

Signed, written requests should contain individual's full name, office name where they were assigned or affiliated, and office address and telephone number applicable to the period during which the records were maintained.”

* * * * *

Record source categories:

Delete entry and replace with “Individual, supervisors, and emergency personnel coordinators.”

* * * * *

[FR Doc. 2014-07868 Filed 4-8-14; 8:45 am]

BILLING CODE 5001-06-P